DEPARTMENT OF JUSTICE

Antitrust Division

Notice Pursuant to the National Cooperative Research and Production Act of 1993—The Mortgage Industry Standards Maintenance Organization

Notice is hereby given that, on September 30, 2004, pursuant to Section 6(a) of the National Cooperative Research and Production Act of 1993, 15 U.S.C. 4301 et seq. (“the Act”), The Mortgage Industry Standards Maintenance Organization (“MISMO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: The Mortgage Industry Standards Maintenance Organization, Washington, DC. The nature and scope of MISMO's standards development activities are: to develop, promote, and maintain voluntary electronic commerce standards for electronic mortgages and for the electronic exchange of data within the commercial/multifamily and residential mortgage industries.

Dorothy B. Fountain,
Deputy Director of Operations, Antitrust Division.

[FR Doc. 04-27547 Filed 12-15-04; 8:45 am]

BILLING CODE 4410-11-M